DEPARTMENT OF EDUCATION

Applications for New Awards; Alaska Native Education Program; Corrections

AGENCY: Office of Elementary and Secondary Education, Department of Education.

ACTION: Notice; corrections.

SUMMARY: On January 12 2021, the Department of Education (Department) published in the Federal Register a notice inviting applications (NIA) for the fiscal year (FY) 2021 Alaska Native Education (ANE) program competition, Assistance Listing Number 84.356A. The Department is amending the NIA by increasing the estimated available funds and number of awards and extending the deadline date for transmittal of applications to May 3, 2021.

FOR FURTHER INFORMATION CONTACT: Almita Reed, U.S. Department of Education, 400 Maryland Avenue SW, Room 3E222, Washington, DC 20202. Telephone: (202) 260-1979. Email: OESE.ASKANEP@ed.gov.

If you use a telecommunications device for the deaf (TDD) or a text telephone (TTY), call the Federal Relay Service, toll free, at 1-800-877-8339.

SUPPLEMENTARY INFORMATION: On January 12, 2021, we published in the Federal Register (86 FR 2392) the NIA for the FY 2021 ANE competition. Following publication of the NIA, President Biden signed the American Rescue Plan Act of 2021, which provides $85,000,000 for awards to entities eligible to receive grants under the ANE program. Accordingly, we are amending the NIA to notify prospective applicants that we are increasing the estimated available funds and estimated number of awards, and are making related conforming changes. In addition, we are extending the deadline for transmittal of applications in order to allow applicants more time to prepare and submit their applications. The application package will be adjusted to reflect the changes.

Applicants that have already submitted applications under the FY 2021 ANE competition may resubmit applications, but are not required to do so. If a new application is not submitted, the Department will use the application that was submitted by the original deadline. If a new application is submitted, the Department will consider the application that is most recently submitted before the deadline of May 3, 2021.

All other requirements and conditions stated in the NIA remain the same.

Corrections

In the Federal Register of January 12, 2021 (86 FR 2392), in FR Doc. No. 2021-00378, we make the following corrections:

1. On page 2392, in the second column, under the “Dates” caption and following the heading “Deadline for Transmittal of Applications,” remove “April 12, 2021” and add, in its place, “May 3, 2021”.

2. On page 2394, in the middle of the second column, correct the following in the “II. Award Information” section:

(a) Following the heading “Estimated Available Funds:” remove “$15,592,043” and add, in its place, “$31,184,086”.

(b) Following the heading “Estimated Number of Awards:” remove “18” and add, in its place, “36”.

Program Authority: 20 U.S.C. 7541-7546; section 1106 of the American Rescue Plan Act of 2021, Pub. L. 117-2.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ruth Ryder,
Deputy Assistant Secretary for Policy and Programs, Office of Elementary and Secondary Education.

[FR Doc. 2021-07154 Filed 4-6-21; 8:45 am]

BILLING CODE 4000-01-P